DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than October 7, 2014.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Bureau of Primary Health Care (BPHC) Uniform Data System (UDS).

OMB No. 0915-0193—Revision.

Abstract: The Uniform Data System (UDS) is the Bureau of Primary Health Care's (BPHC's) annual reporting system for HRSA-supported health centers. The UDS includes reporting requirements for Health Center Program look-alikes and grantees of the following programs: the Community Health Center program, the Migrant Health Center program, the Health Care for the Homeless program, and the Public Housing Primary Care program.

Need and Proposed Use of the Information: HRSA collects UDS data which are used to ensure compliance with legislative and regulatory requirements, improve health center performance and operations, and report overall program accomplishments. The data help to identify trends over time, enabling HRSA to establish or expand targeted programs and identify effective services and interventions to improve the health of underserved communities and vulnerable populations. UDS data are compared with national health-related data, including the National Health Interview Survey and National Health and Nutrition Examination Survey, to review differences between the health center patient populations and the U.S. population at large and those individuals and families who rely on the health care safety net for primary care. UDS data also inform Health Center programs, partners, and communities about the patients served by Health Centers. To meet these objectives, BPHC requires a core set of data collected annually. The UDS data collection for 2015 will be revised in two ways. A new line will be added to identify patients that are dually eligible for Medicare and Medicaid, and the existing diabetes clinical measure will be streamlined to align with the Healthy People 2020 national benchmark. Specifically, health centers will no longer report three categories, Hemoglobin A1c (Hba1c) less than 8 percent; Hba1c greater than or equal to 8 percent and less than or equal to 9 percent; and Hba1c greater than 9 percent. Health centers will report one category, Hba1c greater than 9 percent.

Likely Respondents: The respondents will be HRSA BPHC Health Center Program grantees and look-alikes.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours:

Form name | Number of respondents | Number of responses per respondent | Total responses | Average burden per response (in hours) | Total burden hours
Universal Report | 1,302 | 1 | 1302 | 82 | 106,764
Grant Report | 499 | 1 | 499 | 18 | 8,982
Total | 1,801 |  |  |  | 115,746

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: August 1, 2014.
Jackie Painter,
Acting Director, Division of Policy and Information Coordination.

[FR Doc. 2014-18736 Filed 8-7-14; 8:45 am]

BILLING CODE 4165-15-P